DEPARTMENT OF DEFENSE

Department of the Army, Corps of Engineers

Intent To Prepare a Supplemental Environmental Impact Statement for a Proposed 278 Megawatt Circulating Fluidized Bed Electric Generating Unit and Associated Infrastructure To Be Constructed and Operated by East Kentucky Power Cooperative, Inc., in Clark County, KY

AGENCY: U.S. Army Corps of Engineers, DoD.

ACTION: Notice of Intent (NOI).

SUMMARY: East Kentucky Power Cooperative, Inc. (EKPC) has applied for a permit from the U.S. Army Corps of Engineers (Corps) to authorize unavoidable impacts to jurisdictional waters of the U.S. pursuant to Section 404 of the Clean Water Act (Section 404) and Section 10 of the Rivers and Harbors Act (Section 10). EKPC is proposing to construct and operate a 278 megawatt circulating fluidized bed electric generating unit (CFB) and associated infrastructure at the existing J.K. Smith Power Station (the Smith Site) in southern Clark County, Kentucky (Proposed Action). In addition to the CFB unit, other components of the Proposed Action on the Smith Site include: An approximately one-mile, 345 kV electric transmission line; two (2) beneficial reuse structural fills using coal combustion by-products (CCB); two (2) landfills for the on-site disposal of CCB; an emergency drought water storage reservoir; several soil borrow areas for landfill cover and other site development uses; and a new water intake/outfall structure in the Kentucky River.

The Corps intends to prepare a Supplemental Environmental Impact Statement (SEIS) to evaluate the potential effects of the Proposed Action on the environment. The SEIS is to be based on a Final EIS and Record of Decision prepared by the U.S. Department of Energy in 2002/2003 for a proposed 540 megawatt coal-fired integrated gasification combined cycle (IGCC) electric generating plant at the same location, the Smith Site. That project, known as the Kentucky Pioneer IGCC Demonstration Project, was never built. USACE has reviewed the EIS prepared by DOE and, based on similarities between the two projects, has determined to adopt that EIS as the basis for USACE's review of the Proposed Action. USACE is preparing this Supplemental EIS (SEIS) to evaluate those aspects of the Proposed Action that are not substantially similar to the DOE project, as a result of changes in project parameters, existing environmental conditions, and relevant laws and regulations. Where appropriate, information from the DOE EIS will be incorporated in the SEIS.

A Notice of Intent (NOI) to prepare an SEIS for the Proposed Action was originally published in the Federal Register on October 6, 2006, by the Rural Utilities Service (RUS), an agency which administers the U.S. Department of Agriculture's Rural Development Utilities Programs. 71 FR 59070 (2006).

The Corps previously agreed to participate as a cooperating agency in the preparation of the SEIS in order to meet its NEPA obligations with respect to EKPC's request for a Section 404/Section 10 permit for the Proposed Action. As a result of the RUS decision to suspend financing for new baseload electric generation plants, RUS has informed the Corps that it does not intend to complete the SEIS at this time. Thus, the Corps has determined that it will assume the role of lead agency in order to complete the SEIS and satisfy its NEPA obligations with respect to EKPC's request for a Section 404/Section 10 permit for the Proposed Action.

FOR FURTHER INFORMATION CONTACT: Questions about the Proposed Action and SEIS should be addressed to Michael Hasty, Project Manager, Regulatory Branch, Louisville District, at (502) 315-6676, e-mail Michael.D.Hasty@usace.army.mil.

SUPPLEMENTARY INFORMATION: 1. Proposed Action. The project proposed by EKPC would include the construction and operation of a 278-megawatt CFB unit and associated infrastructure on the 3,272-acre Smith Site owned by EKPC in southern Clark County, Kentucky. The Proposed Action is needed to provide sufficient electric generating capacity to meet the baseload electric power needs of EKPC's rural member distribution cooperatives in 2013. Fuel would be supplied to the plant site by rail or truck. The construction of a substation and approximately one mile of 345 kV transmission line on the Smith Site would be required to connect the CFB unit to EKPC's transmission system at the existing, on-site J.K. Smith 345 kV Switching Station.

The discharge of fill material into waters of the U.S. would be required for the construction of two (2) CCB beneficial reuse structural fills; two (2) on-site CCB landfills; an emergency drought water storage reservoir; and several soil borrow areas for landfill cover and other on-site uses. The Proposed Action also would include the construction of a combined water supply intake and process water discharge outfall in the Kentucky River. EKPC's schedule calls for the proposed facility to be operational by spring 2013.

2. Alternatives. Alternatives to be considered by the Corps include no action, purchased power, renewable energy sources, distributed generation, non-renewable energy resources (including the Proposed Action), nuclear, demand side management, and alternative site locations. The Corps' review of alternatives also will include the application of the Section 404(b)(1) guidelines to ensure the avoidance, minimization, and mitigation of impacts to aquatic resources.

3. Scoping Process. RUS previously engaged in a scoping process for the Proposed Action that will serve as the basis for the SEIS. Following RUS's October 6, 2006 NOI, that agency conducted scoping meetings for government agencies and the public in Trapp, Kentucky, on October 18, 2006. An Alternatives Evaluation and Site Selection Study (Alternatives Report), prepared by EKPC, was made available for review at the scoping meeting and on the RUS Web site. That Alternatives Report and the Public Scoping Report developed as a result of the scoping process and scoping meetings are available for public review at the Corps at the address provided in this notice, and on EKPC's Web site at http://www.ekpc.coop/smith-unit1.html.

Because the Corps has participated as a cooperating agency with RUS in the NEPA process, and because the nature of the Proposed Action has not changed materially (except with the reduction from two CFB units to one CFB unit), the Corps intends to rely on the prior scoping process to complete and publish the Draft SEIS. In addition the Corps will continue consultations with the appropriate agencies.

4. Availability. The Draft SEIS is anticipated to be available for public review and comment in September or October 2009.

Dated: September 8, 2009.
Keith A. Landry,
Colonel, Corps of Engineers, District Commander.

[FR Doc. E9-22836 Filed 9-21-09; 8:45 am]

BILLING CODE 3710-JB-P